DEPARTMENT OF ENERGY

Federal Energy Regulatory Commission

[Docket Nos. RP01-350-000 and RP01-200-000]

Colorado Interstate Gas Company; Notice of Technical Conference

June 5, 2001.

In the Commission's order issued in Docket No. RP01-350-000 on April 25, 2001,¹ the Commission directed that a technical conference be held to address issues raised by the filing. At the initial technical conference in this proceeding held on May 22, 2001, it was determined that a second conference would be useful in addressing the issues in this proceeding. This conference will also address related issues concerning CIG's daily Scheduled Imbalance Penalty and interruptible Automatic Parking and Lending service (APAL), proposed in Docket No. RP01-200-000.²

¹ Colorado Interstate Gas Co., 95 FERC ¶61,099 (2001).

² Colorado Interstate Gas Co., 94 FERC ¶61,088 (2001).

Take notice that the technical conference will be held on Tuesday, June 12, 2001,³ at 10 a.m., in a room to be designated, at the offices of the Federal Energy Regulatory Commission, 888 First Street, NE., Washington, DC 20426.

³ The notice of the May 22, 2001 conference stated that “if a second technical conference meeting is required, that meeting will take place on June 5, 2001.” The parties at the initial technical conference decided to change the date of the second conference from June 5 to June 12.

All interested parties and Staff are permitted to attend.

David P. Boergers,
Secretary.

[FR Doc. 01-14558 Filed 6-8-01; 8:45 am]

BILLING CODE 6717-01-M